DEPARTMENT OF ENERGY

Federal Energy Regulatory Commission

Notice

March 5, 2003.

The following notice of meeting is published pursuant to section 3(a) of the Government in the Sunshine Act (Pub. L. 94-409), 5 U.S.C 552b:

AGENCY: Federal Energy Regulatory Commission.

DATES: March 12, 2003, 10 a.m.

PLACE: Room 2C, 888 First Street, NE., Washington, DC 20426.

STATUS: Open.

MATTERS TO BE CONSIDERED: Agenda

* Note—Items listed on the agenda may be deleted without further notice.

FOR FURTHER INFORMATION CONTACT: Magalie R. Salas, Secretary, Telephone (202) 502-8400. For a recording listing items stricken from or added to the meeting, call (202) 502-8627.

This is a list of matters to be considered by the commission. It does not include a listing of all papers relevant to the items on the agenda; however, all public documents may be examined in the reference and information center.

821st—Meeting March 12, 2003, Regular Meeting, 10 a.m.

Administrative Agenda

A-1.

Docket# AD02-1, 000, Agency Administrative Matters

A-2.

Docket# AD02-7, 000, Customer Matters, Reliability, Security and Market Operations Markets, Tariffs and Rates—Electric

E-1.

Docket# ER03-407, 000, California Independent System Operator Corporation

E-2.

Docket# ER03-19, 000, Detroit Edison Company

Other#s ER03-19, 001, Detroit Edison Company

E-3.

Docket# ER02-2014, 006, Entergy Services, Inc.

E-4.

Docket# EL03-34, 000, Midwest Independent Transmission System Operator, Inc.

E-5.

Docket# ER03-323, 000, Midwest Independent Transmission System Operator, Inc.

E-6.

Omitted

E-7.

Docket# ER03-406, 000, PJM Interconnection L.L.C.

E-8.

Docket# EL00-111, 002, Cities of Anaheim, Azusa, Banning, Colton and Riverside, California v. California Independent System Operator Corporation

Other#s EL01-84, 000, Salt River Project Agricultural Improvement and Power District v. California Independent System Operator Corporation

ER01-607, 001, California Independent System Operator Corporation

E-9.

Docket# EL02-121, 001, Occidental Chemical Corporation v. PJM Interconnection, L.L.C. and Delmarva Power and Light Company

Other#s EL02-121, 002, Occidental Chemical Corporation v. PJM Interconnection, L.L.C. and Delmarva Power and Light Company

E-10.

Omitted

E-11.

Docket# ER03-409, 000, Pacific Gas and Electric Company

E-12.

Docket# ER03-405, 000, PJM Interconnection L.L.C.

E-13.

Docket# ER03-404, 000, PJM Interconnection L.L.C.

E-14.

Omitted

E-15.

Omitted

E-16.

Docket# ER03-423, 000, Safe Harbor Water Power Corporation

E-17.

Docket# ER02-1451, 000, Ameren Energy Marketing Company

Other#s ER02-1451, 001, Ameren Energy Marketing Company

E-18.

Docket# ER97-1523, 071, New York Independent System Operator, Inc.

Other#s OA97-470, 066, New York Independent System Operator, Inc.

ER97-4234, 064, New York Independent System Operator, Inc.

E-19.

Docket# EL00-95, 071, San Diego Gas & Electric Company v. Sellers of Energy and Ancillary Services Into Markets Operated by the California Independent System Operator and the California Power Exchange

Other#s EL00-97, 007, Reliant Energy Power Generation, Inc., Dynegy Power Marketing, Inc., and Southern Energy California, L.L.C., v. California Independent System Operator Corporation

EL00-98, 060, Investigation of Practices of the California Independent System Operator and the California Power Exchange

EL00-104, 012, California Electricity Oversight Board v. All Sellers of Energy and Ancillary Services Into the Energy and Ancillary Services Markets Operated by the California Independent System Operator and the California Power Exchange

EL00-107, 013, Public Meeting in San Diego, California

EL01-1, 013, California Municipal Utilities Association v. All Jurisdictional Sellers of Energy and Ancillary Services Into Markets Operated by the California Independent System Operator and the California Power Exchange

EL01-2, 007, Californians for Renewable Energy, Inc. (CARE), v. Independent Energy Producers, Inc., and All Sellers of Energy and Ancillary Services Into Markets Operated by the California Independent System Operator and the California Power Exchange, All Scheduling Coordinators Acting on Behalf of the Above Sellers, California Independent System Operator Corporation, and California Power Exchange Corporation

EL01-68, 026, Investigation of Wholesale Rates of Public Utility Sellers of Energy and Ancillary Services in the Western Systems Coordinating Council

E-20.

Omitted

E-21.

Omitted

E-22.

Omitted

E-23.

Omitted

E-24.

Omitted

E-25.

Omitted

E-26.

Omitted

E-27.

Docket# ER03-147, 002, ISO New England Inc.

Other#s ER03-147 001 ISO New England Inc.

E-28.

Omitted

E-29.

Omitted

E-30.

Omitted

E-31.

Omitted

E-32.

Docket# EL03-43, 000, Arizona Public Service Company

E-33.

Docket# EL03-39, 000, Central Illinois Light Company

E-34.

Omitted

E-35.

Docket# EL03-28, 000, Town of Wallingford, Connecticut, Department of Public Utilities, Electric Division, and Connecticut Municipal Electric Energy Cooperative v. Connecticut Light and Power Company, Select Energy,Inc., and Northeast Utilities Service Company

E-36.

Docket# EL03-41, 000, New York State Electric and Gas Corporation v. New York Independent System Operator, Inc., and Niagara Mohawk Power Corporation

E-37.

Docket# EL03-27, 000, Niagara Mohawk Power Corporation v. Huntley Power LLC, NRG Huntley Operations, Inc., Dunkirk Power LLC, NRG Dunkirk Operations, Inc., Osewgo Harbor Power LLC,and NRG Oswego Operation, Inc.

E-38.

Omitted

E-39.

Docket# EL02-12, 001, Sunbury Electric Generation, LLC v. PPL Electric Utilities Corporation

Markets, Tariffs and Rates—Gas

G-1.

Omitted

G-2.

Docket# RP03-41, 001, e-prime, inc. v. PG&E Gas Transmission, Northwest Corporation

G-3.

Omitted

G-4.

Docket# RP02-74, 000, Enbridge Pipelines (KPC)

G-5.

Docket# RP01-236, 009, Transcontinental Gas Pipe Line Corporation

Other#s RP00-481, 009, Transcontinental Gas Pipe Line Corporation

RP00-553, 012, Transcontinental Gas Pipe Line Corporation

RM96-1, 020, Transcontinental Gas Pipe Line Corporation

G-6.

Docket# RP02-407, 000, Pine Needle LNG Company, LLC

G-7.

Omitted

G-8.

Docket# RP02-349, 000, Gulf South Pipeline Company, LP

G-9.

Docket# RP02-134, 000, Maritimes & Northeast Pipeline, L.L.C.

Other#s RP02-134, 001, Maritimes & Northeast Pipeline, L.L.C.

RP02-134, 002, Maritimes & Northeast Pipeline, L.L.C.

G-10.

Omitted

G-11.

Docket# RP02-242, 000, Discovery Gas Transmission LLC

G-12.

Omitted

G-13.

Omitted

G-14.

Omitted

G-15.

Omitted

G-16.

Omitted

G-17.

Omitted

G-18.

Omitted

G-19.

Docket# RP99-485, 001, Enbridge Pipelines (KPC)

G-20.

Docket# RP99-485, 002, Enbridge Pipelines (KPC)

G-21.

Omitted

G-22.

Omitted

G-23.

Omitted

G-24.

Omitted

G-25.

Omitted

G-26.

Docket# RM96-1, 024, Standards for Business Practices of Interstate Natural Gas Pipelines

Energy Projects—Hydro

H-1.

Docket# P-12015, 001, Troup Count Board of Commissioners

H-2.

Docket# P-12209, 001, Three Mile Falls Hydro, LLC

H-3.

Omitted

H-4.

Omitted

H-5.

Omitted

H-6.

Docket# P-2687, 014, Pacific Gas and Electric Company

Energy Projects—Certificates

C-1.

Docket# CP03-30, 000, BP West Coast Products, L.L.C., Atlantic Richfield Company and Intalco Aluminum Corporation

C-2.

Docket# CP03-8, 000, Regent Resources Ltd.

C-3.

Docket# CP02-60, 002, CMS Trunkline LNG Company, LLC

C-4.

Docket# CP03-25, 000, Transcontinental Gas Pipe Line Corporation

Magalie R. Salas,
Secretary.

[FR Doc. 03-5968 Filed 3-7-03; 4:38 pm]

BILLING CODE 6717-01-P